DEPARTMENT OF COMMERCE

National Oceanic and Atmospheric Administration

RIN 0648-XX002

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow commercial fishing vessels to fish outside of scallop regulations in support of research conducted by the Coonamessett Farm Foundation. Regulations under the Magnuson-Stevens Fishery Conservation and Management Act require publication of this notification to provide interested parties the opportunity to comment on applications for proposed Exempted Fishing Permits.

DATES: Comments must be received on or before July 26, 2019.

ADDRESSES: You may submit written comments by any of the following methods:

• Email: nmfs.gar.efp@noaa.gov. Include in the subject line “CFF Compensation Fishing Gear Research EFP.”

• Mail: Michael Pentony, Regional Administrator, NMFS, Greater Atlantic Regional Fisheries Office, 55 Great Republic Drive, Gloucester, MA 01930. Mark the outside of the envelope “Comments on CFF Compensation Fishing Gear Research EFP.”

FOR FURTHER INFORMATION CONTACT: Emily Farr, Fisheries Management Specialist, 978-282-8477 or Shannah Jaburek, Fisheries Management Specialist, 978-282-8456.

SUPPLEMENTARY INFORMATION: Coonamessett Farm Foundation (CFF) submitted a complete application for an Exempted Fishing Permit (EFP) on May 1, 2019, that would allow gear research to be conducted by vessels on compensation fishing trips associated with projects funded by the 2019 Scallop Research Set-Aside (RSA) Program. The exemptions would allow 21 participating commercial fishing vessels to exceed the crew size regulations at 50 CFR 648.51(c) to place a researcher on the vessel and temporarily exempt the participating vessels from possession limits and minimum size requirements specified in 50 CFR part 648, subsections B and D through O, for biological sampling purposes. Any fishing activity conducted outside the scope of the exempted fishing activity would be prohibited, including landing fish in excess of a possession limit or below the minimum size.

Experimental fishing activity would test a one-way extended link dredge gear modification to reduce flatfish bycatch and catch of pre-recruit scallops in the scallop dredge fishery. Any modification would comply with existing scallop gear regulations. All trips would take place in scallop open access areas of Southern New England and scallop fishing areas open to scallop RSA compensation fishing.

The exemption from crew size limits is needed because a research technician would accompany vessels on the compensation fishing trips to collect catch data associated with the dredge modifications. The crew size exemption would be for approximately 120 days-at-sea and must be used in conjunction with a valid compensation fishing letter of authorization. The technician would only engage in data collection activities and would not process catch to be landed for sale. Exemption from possession limit and minimum sizes would support catch sampling activities and ensure the vessel is not in conflict with possession regulations while collecting catch data. All catch above a possession limit or below a minimum size would be discarded as soon as possible following data collection. The proposed gear modifications are not expected to increase catch above typical commercial fishing practices and gears. All research trips would otherwise be consistent with normal commercial fishing activity and catch would be retained for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 5, 2019.
Jennifer M. Wallace,
Acting Director, Office of Sustainable Fisheries, National Marine Fisheries Service.

[FR Doc. 2019-14728 Filed 7-10-19; 8:45 am]

BILLING CODE 3510-22-P